DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 08N146B, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on June 1, 2016, through June 30, 2016. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the Program.

Dated: July 22, 2016.
James Macrae,
Acting Administrator.

List of Petitions Filed

1. Ruby Lorenzo, Phoenix, Arizona, Court of Federal Claims No: 16-0647V.

2. Jacqueline Berg on behalf of Marilyn Moss, Deceased, Wellesley Hills, Massachusetts, Court of Federal Claims No: 16-0650V.

3. Sarah Etheridge-Criswell, Van Nuys, California, Court of Federal Claims No: 16-0652V.

4. Lisa Picker, St. Louis, Missouri, Court of Federal Claims No: 16-0654V.

5. Joann Brenner, Huntington Valley, Pennsylvania, Court of Federal Claims No: 16-0656V.

6. Talat Pervez, Long Island City, New York, Court of Federal Claims No: 16-0657V.

7. Gayle E. Gagne, Greenwood, Indiana, Court of Federal Claims No: 16-0660V.

8. Linda Ybarra, Dallas, Texas, Court of Federal Claims No: 16-0661V.

9. Stephen Capozzoli, Smithtown, New York, Court of Federal Claims No: 16-0666V.

10. Margaret Elledge, Carlsbad, California, Court of Federal Claims No: 16-0667V.

11. Nicholas Edwards, Fort Worth, Texas, Court of Federal Claims No: 16-0668V.

12. Christi Jewell, Jefferson, Ohio, Court of Federal Claims No: 16-0670V.

13. Luis C. Ramos, North Kansas City, Missouri, Court of Federal Claims No: 16-0673V.

14. Gregory Thompson, Philadelphia, Pennsylvania, Court of Federal Claims No: 16-0675V.

15. Fonda Bravo, Asheville, North Carolina, Court of Federal Claims No: 16-0679V.

16. Virginia A. Calfee, Christiansburg, Virginia, Court of Federal Claims No: 16-0680V.

17. Candy F. Hall, Linwood, New Jersey, Court of Federal Claims No: 16-0681V.

18. Hamid Ahmed, Dallas, Texas, Court of Federal Claims No: 16-0684V.

19. Marietta Schenck, Sarasota, Florida, Court of Federal Claims No: 16-0685V.

20. Candy Glascock, Warrenton, Virginia, Court of Federal Claims No: 16-0686V.

21. Elizabeth Weeks Blake, Columbia, South Carolina, Court of Federal Claims No: 16-0689V.

22. Amy Dunlap, Wilmington, Delaware, Court of Federal Claims No: 16-0690V.

23. Albert Wilson, Franklin, North Carolina, Court of Federal Claims No: 16-0691V.

24. Sharon Cagle, Truckee, California, Court of Federal Claims No: 16-0693V.

25. Sophie Rose, Staten Island, New York, Court of Federal Claims No: 16-0696V.

26. Joseph Brunner, Erie, Pennsylvania, Court of Federal Claims No: 16-0698V.

27. Lisa Antalosky, Chicago, Illinois, Court of Federal Claims No: 16-0701V.

28. Grace Drummond, Baraboo, Wisconsin, Court of Federal Claims No: 16-0702V.

29. Barbara Sanders, Jackson, Mississippi, Court of Federal Claims No: 16-0704V.

30. Lauretta Harvey, Boston, Massachusetts, Court of Federal Claims No: 16-0705V.

31. Crystal Eckhart on behalf of Z. E., Riverside, California, Court of Federal Claims No: 16-0706V.

32. Kristine Davies and Joseph Davies on behalf of A. D., Doylestown, Pennsylvania, Court of Federal Claims No: 16-0707V.

33. Jill M. Simmers on behalf of Elizabeth K. Samson, Tiffin, Ohio, Court of Federal Claims No: 16-0711V.

34. Martin Desiderio, Harrisburg, Pennsylvania, Court of Federal Claims No: 16-0713V.

35. Shirley Frazier, Cleveland, Tennessee, Court of Federal Claims No: 16-0714V.

36. Irene Driscoll, Milwaukee, Wisconsin, Court of Federal Claims No: 16-0715V.

37. Lucianna Dilsaver, Boston, Massachusetts, Court of Federal Claims No: 16-0716V.

38. Taylor Tucker, Washington, District of Columbia, Court of Federal Claims No: 16-0718V.

39. Robert E. McCloud, Washington, District of Columbia, Court of Federal Claims No: 16-0719V.

40. Beverly Ann Normand, Chicago, Illinois, Court of Federal Claims No: 16-0720V.

41. Briana N. White on behalf of K. A. W., Deceased, Kingsport, Tennessee, Court of Federal Claims No: 16-0721V.

42. Teresa Thompson, Harlan, Kentucky, Court of Federal Claims No: 16-0722V.

43. Edith Bognar, Phoenix, Arizona, Court of Federal Claims No: 16-0726V.

44. Joan Jenkins, Front Royal, Virginia, Court of Federal Claims No: 16-0727V.

45. Mabel B. Markham, Seattle, Washington, Court of Federal Claims No: 16-0728V.

46. Randy Polk, Phoenix, Arizona, Court of Federal Claims No: 16-0729V.

47. Courtney P. Binette, Washington, District of Columbia, Court of Federal Claims No: 16-0731V.

48. LaVon H. Drake, Greenville, North Carolina, Court of Federal Claims No: 16-0732V.

49. Lora Thomas, Calumet City, Illinois, Court of Federal Claims No: 16-0733V.

50. Kevin Otteni, Washington, District of Columbia, Court of Federal Claims No: 16-0735V.

51. Roberta Pek, Dresher, Pennsylvania, Court of Federal Claims No: 16-0736V.

52. Anthony Sclafani, Boston, Massachusetts, Court of Federal Claims No: 16-0737V.

53. Theodore Martinez and Sarah Martinez on behalf of W. M., Minneapolis, Minnesota, Court of Federal Claims No: 16-0738V.

54. Irma Salas, Boston, Massachusetts, Court of Federal Claims No: 16-0739V.

55. Amanda Biers-Melcher, Burbank, California, Court of Federal Claims No: 16-0742V.

56. Helene Melancon, Boston, Massachusetts, Court of Federal Claims No: 16-0743V.

57. Audrey Cropp, Dresher, Pennsylvania, Court of Federal Claims No: 16-0745V.

58. Constance Kohl, Englewood, New Jersey, Court of Federal Claims No: 16-0748V.

59. Edward Mitchell, Cupertino, California, Court of Federal Claims No: 16-0749V.

60. Lorry J. Galbreath, St. Louis, Missouri, Court of Federal Claims No: 16-0751V.

61. Timothy Anderson, Washington, District of Columbia, Court of Federal Claims No: 16-0752V.

62. Christian Panaitescu and Mihaela Panaitescu on behalf of R P, Vienna, Virginia, Court of Federal Claims No: 16-0753V.

63. Kady Alexis Malloy, Houston, Texas, Court of Federal Claims No: 16-0754V.

64. Rosina Rohrs, Dresher, Pennsylvania, Court of Federal Claims No: 16-0756V.

65. Crisanne Hitler, Dresher, Pennsylvania, Court of Federal Claims No: 16-0757V.

66. Jessica Barrett, Dresher, Pennsylvania, Court of Federal Claims No: 16-0759V.

67. Kimberly Beining, Sarasota, Florida, Court of Federal Claims No: 16-0761V.

68. David Miron, Minneapolis, Minnesota, Court of Federal Claims No: 16-0762V.

69. Luzelva Rojo, Rancho Santa Margarita, California, Court of Federal Claims No: 16-0763V.

70. Mariana Creighton-O'Connor, Dresher, Pennsylvania, Court of Federal Claims No: 16-0764V.

71. Judith Frolish, Boston, Massachusetts, Court of Federal Claims No: 16-0765V.

72. Max Baum, Beverly Hills, California, Court of Federal Claims No: 16-0766V.

73. Tonya Thomas, Beverly Hills, California, Court of Federal Claims No: 16-0767V.

74. Joe Green, Beverly Hills, California, Court of Federal Claims No: 16-0768V.

75. Joann Savage, Dallas, Texas, Court of Federal Claims No: 16-0769V.

76. Debra Rehm, Washington, District of Columbia, Court of Federal Claims No: 16-0770V.

77. Kimberly Hill, Beverly Hills, California, Court of Federal Claims No: 16-0771V.

78. Laura Chavolla-Zacarias, Beverly Hills, California, Court of Federal Claims No: 16-0772V.

79. Olesya Milano on behalf of A M, Beverly Hills, California, Court of Federal Claims No: 16-0773V.

80. Wendell Davis, Beverly Hills, California, Court of Federal Claims No: 16-0774V.

81. Alan Kozuki, Dresher, Pennsylvania, Court of Federal Claims No: 16-0776V.

82. Cathy Sutter, Dresher, Pennsylvania, Court of Federal Claims No: 16-0777V.

83. Denise Jennings on behalf of D.J., Farmington Hills, Michigan, Court of Federal Claims No: 16-0779V.

84. Kathryn Scott-Hlavac, Washington, District of Columbia, Court of Federal Claims No: 16-0781V.

85. Irene Deniston, Dresher, Pennsylvania, Court of Federal Claims No: 16-0782V.

86. Eliana Autry, Memphis, Tennessee, Court of Federal Claims No: 16-0785V.

[FR Doc. 2016-17946 Filed 7-28-16; 8:45 am]

BILLING CODE 4165-15-P